ENVIRONMENTAL PROTECTION AGENCY

[FRL-10007-69-OLEM]

FY2020 Supplemental Funding for Brownfields Revolving Loan Fund (RLF) Grantees; Extension of Application Period

AGENCY: Environmental Protection Agency (EPA).

ACTION: Notice of the availability of funds; extension of application period.

SUMMARY: The Environmental Protection Agency (EPA) is extending the application period for a notice issued in the Federal Register of March 9, 2020, announcing the availability of approximately $5 million to provide supplemental funds to Revolving Loan Fund (RLF) cooperative agreements previously awarded competitively under section 104(k)(3) of the Comprehensive Environmental Response, Compensation and Liability Act (CERCLA). This document extends the due date for supplemental funding requests to April 22, 2020.

DATES: Supplemental funding requests must be submitted by April 22, 2020.

ADDRESSES: Follow the detailed instructions provided under ADDRESSES in the Federal Register document of March 9, 2020 (85 FR 13647) (FRL-10006-24-OLEM).

FOR FURTHER INFORMATION CONTACT: Rachel Lentz, Office of Brownfields and Land Revitalization, Environmental Protection Agency, 1200 Pennsylvania Ave. NW, Washington, DC 20460-0001; telephone number (202) 566-2745; email address: lentz.rachel@epa.gov. You may also contact the appropriate Regional Brownfields Coordinator listed under SUPPLEMENTARY INFORMATION in the Federal Register document of March 9, 2020.

SUPPLEMENTARY INFORMATION: EPA is extending the due date for supplemental funding requests Brownfields Revolving Loan Fund cooperative agreements to April 22, 2020 due to disruptions stemming from the Novel Coronavirus (COVID-19) public health emergency. The original due date was April 8, 2020. This extension is consistent with the guidance that the Office of Management and Budget provided on March 19, 2020 in M-20-17, Administrative Relief for Recipients and Applicants of Federal Financial Assistance Directly Impacted by the Novel Coronavirus (COVID-19) due to Loss of Operations regarding extending due dates for funding applications EPA will continue to monitor the impact on COVID-19 and any further extension of the due date for submission of FY2020 RLF Supplemental Funding applications will be announced on the EPA's Brownfields web page at www.epa.gov/brownfields rather than in the Federal Register.

Dated: April 1, 2020.
David Lloyd,
Director, Office of Brownfields and Land Revitalization, Office of Land and Emergency Management.

[FR Doc. 2020-07201 Filed 4-6-20; 8:45 am]

BILLING CODE 6560-50-P